DEPARTMENT OF TRANSPORTATION

Pipeline and Hazardous Materials Safety Administration

Office of Hazardous Materials Safety; Notice of Applications for Modification of Special Permit

AGENCY: Pipeline and Hazardous Materials Safety Administration (PHMSA), DOT.

ACTION: List of Applications for Modification of Special Permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before May 6, 2011.

ADDRESS COMMENTS TO: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, Southeast, Washington DC or at http://regulations.gov.

This notice of receipt of applications for modification of special permit is published in accordance with Part 107 of the Federal hazardous materials transportation law (49 U.S.C. 5117(b); 49 CFR 1.53(b)).

Issued in Washington, DC, on April 11, 2011.
Donald Burger,
Chief, Special Permits and Approvals Branch.

Application No. | Docket No. | Applicant | Regulation(s) affected | Nature of special permit thereof
MODIFICATION SPECIAL PERMITS
9758-M |  | Coleman Company, Inc., The Wichita, KS | 49 CFR 173.304(d)(3)(ii); 178.33 | To modify the special permit to authorize the transportation in commerce of an additional Division 2.1 material.
10511-M |  | Schlumberger Well Service, a Division of Schlumber Technology Corporation, Sugar Land, TX | 49 CFR 173.304;173.310 | To modify the special permit to authorize the transportation in commerce of Division 2.2 gases in nonspecification packaging.
12332-M |  | Toyota Motor Sales, U.S.A., Inc., Torrance, CA | 49 CFR 173.166(c) and (e) | To modify the special permit to add cargo vessel as an authorized mode of transportation and to allow consolidation of recycling parts from U.S. territories to be transported with recycling parts from the continental U.S.
14157-M |  | Worthington Cylinders of Canada, Tilbury, Ontario | 49 CFR 173.302a | To modify the special permit to change the test criteria for Hot-Dip Galvanized cylinders from the ratio rejection in § 180.209 to elastic expansion of the REE marked on the cylinder.
14921-M |  | ERA Helicopters LLC, Lake Charles, LA | 49 CFR 173.302(f) | To modify the special permit issued on an emergency basis to a permanent special permit.

[FR Doc. 2011-9497 Filed 4-20-11; 8:45 am]

BILLING CODE 4909-60-M